DEPARTMENT OF ENERGY

Federal Energy Regulatory Commission

[Docket No. RP09-428-000]

ANR Pipeline Company; Notice of Technical Conference

April 9, 2009.

Take notice that the Commission Staff will convene a technical conference in the above-referenced proceeding on Tuesday, May 19, 2009, at 9 a.m. (EST), in Room 3M-2B at the offices of the Federal Energy Regulatory Commission, 888 First Street, NE., Washington, DC 20426.

The technical conference will afford the Commission staff and the parties to the proceeding an opportunity to discuss the issues raised by ANR Pipeline Company's (ANR) annual fuel and electric power cost re-determination filing, including but not limited to the proposed increase in the gas fuel charge and electric power cost charge for the Cold Springs 1 Storage Field.

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact David Faerberg at (202) 502-8275 or e-mail David.Faerberg@ferc.gov.

Kimberly D. Bose,
Secretary.

[FR Doc. E9-8802 Filed 4-16-09; 8:45 am]

BILLING CODE 6717-01-P